DEPARTMENT OF HOMELAND SECURITY

Coast Guard

[Docket No. USCG-2011-0012]

Self-Defense of Vessels of the United States

AGENCY: Coast Guard, DHS.

ACTION: Notice; request for comments.

SUMMARY: Pursuant to Section 912 of the 2010 Coast Guard Authorization Act, the Coast Guard is reviewing its policy regarding standard rules for the use of force for self-defense of vessels of the United States and is requesting comments on the current policy.

DATES: Comments and related material must either be submitted to our online docket via http://www.regulations.gov on or before March 1, 2011, or reach the Docket Management Facility by that date.

ADDRESSES: You may submit written comments identified by docket number USCG-2011-0012 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions concerning this notice or policy, please call or email LCDR John Reardon, Office of Maritime and International Law, United States Coast Guard; telephone 202-372-1129; john.c.reardon@uscg.mil. If you have questions on viewing or submitting material to the docket, call Ms. Renee V. Wright, Program Manager, Docket Operations, telephone 202-366-9826.

SUPPLEMENTARY INFORMATION:

Public Participation and Request for Comments

We encourage you to submit comments and related material on this notice and policy. All comments received will be posted, without change, to http://www.regulations.gov and will include any personal information you have provided.

Submitting comments: If you submit a comment, please include the docket number for this notice (USCG-2011-0012) and provide a reason for each suggestion or recommendation. You may submit your comments and material online, or by fax, mail or hand delivery, but please use only one of these means. We recommend that you include your name and a mailing address, an e-mail address, or a telephone number in the body of your document so that we can contact you if we have questions regarding your submission.

To submit your comment online, go to http://www.regulations.gov and type “USCG-2011-0012” in the “Keyword” box. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments and related material: To view the comments and Coast Guard Port Security Advisory (PSA) 3-09, which provides guidance to the maritime industry with regard to the use of force against pirates, go to http://www.regulations.gov, click on the “read comments” box, which will then become highlighted in blue. In the “Keyword” box insert “USCG-2011-0012” and click “Search.” Click the “Open Docket Folder” in the “Actions” column. If you do not have access to the internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

In accordance with Section 912 of the Coast Guard Authorization Act of 2010 (CGAA), the Coast Guard is seeking input from the public and representatives of industry and labor in order to determine if the current authorization in 33 U.S.C. 383, Resistance of pirates by merchant vessels, and the guidance published by the Coast Guard in Port Security Advisory (PSA) 3-09 provide an adequate framework for standard rules for the use of force for self defense of vessels of the United States.

Section 912 of the CGAA states that an owner, operator, time charterer, master, mariner, or individual who uses force or authorizes the use of force to defend a vessel of the United States against an act of piracy shall not be liable for monetary damages for any injury or death caused by such force to any person engaging in an act of piracy if such force was in accordance with standard rules for the use of force in self-defense of vessels prescribed by the Secretary.

Guidance which may aid the maritime industry with regard to the use of force against pirates is currently provided in PSA 3-09. The Coast Guard seeks public input as to the continued viability of PSA 3-09 as the standard policy. PSA 3-09 provides guidance to United States flagged commercial vessels and embarked personnel, including contract security personnel not entitled to sovereign immunity and operating in High Risk Waters, for employment of force in self-defense or defense of others, as well as defense of the vessel. PSA 3-09 restates existing common law and international law principles in this area. It does not establish new standards or duties with respect to the right of self-defense or defense of others. The guidance is intended to aid companies in the development of their vessel security plan submissions for operating within High Risk Waters and does not mandate specific actions at particular points of time and does not prevent an individual from acting in self-defense or defense of others.

We encourage you to provide your comments as we review the existing policy on the use of force for self-defense of vessels in light of Section 912 of the CGAA.

Authority

This notice is issued under authority of 5 U.S.C. 552(a).

Dated: January 18, 2011.
Kevin S. Cook,
Rear Admiral, U.S. Coast Guard, Director of Prevention Policy.

[FR Doc. 2011-1571 Filed 1-25-11; 8:45 am]

BILLING CODE 9110-04-P